DEPARTMENT OF ENERGY

Privacy Act of 1974; System of Records

AGENCY: U.S. Department of Energy.

ACTION: Rescindment of systems of records notices.

SUMMARY: As required by the Privacy Act of 1974 and the Office of Management and Budget (OMB) Circulars A-108 and A-130, the Department of Energy (DOE or the Department) is publishing notice of rescindment for four existing Privacy Act systems of records. DOE proposes to rescind the following Privacy Act systems of records: DOE-12 Automated Materials and Property Systems (AMPS), DOE-21 Asset Readiness Management System (ARMS), DOE-59 Mailing Lists for Requesters of Energy-Related Information, and DOE-61 Census of High Energy Physicists. This notice will rescind these systems of records due to the systems' discontinuation of use by the Department.

DATES: The proposed modification to these existing systems of records will become effective without further notice on September 11, 2024 unless comments are received that result in a contrary determination.

ADDRESSES: Written comments should be sent to the DOE Desk Officer, Office of Information and Regulatory Affairs, Office of Management and Budget, New Executive Office Building, Room 10102, 735 17th Street NW, Washington, DC 20503, and to Ken Hunt, Chief Privacy Officer, U.S. Department of Energy, 1000 Independence Avenue SW, Rm. 8H-085, Washington, DC 20585, by facsimile at (202) 586-8151, or by email at privacy@hq.doe.gov.

FOR FURTHER INFORMATION CONTACT: Ken Hunt, Chief Privacy Officer, U.S. Department of Energy, 1000 Independence Avenue SW, Rm. 8H-085, Washington, DC 20585, by facsimile at (202) 586-8151, by email at privacy@hq.doe.gov, or by telephone at (240) 686-9485.

SUPPLEMENTARY INFORMATION: On January 9, 2009, DOE published a Compilation of its Privacy Act systems of records, which included Systems of Records DOE-12 Automated Materials and Property Systems (AMPS), DOE-21 Asset Readiness Management System (ARMS), DOE-59 Mailing Lists for Requesters of Energy-Related Information, and DOE-61 Census of High Energy Physicists. This notice will rescind these systems of records due to the systems' discontinuation of use by the Department. The records formally maintained in these systems are being retained (or disposed of) in accordance with the applicable National Archives and Records Administration schedules.

SYSTEM NAMES AND NUMBERS:

DOE-12 Automated Materials and Property Systems (AMPS), DOE-21 Asset Readiness Management System (ARMS), DOE-59 Mailing Lists for Requesters of Energy-Related Information, and DOE-61 Census of High Energy Physicists.

HISTORY:

SORNs DOE-12, DOE-21, DOE-59, and DOE-61 were last published in the Federal Register, 74 FR 1012, 74 FR 1022-1023, 74 FR 1064-1065, and 74 FR 1066-1067, respectively, on January 9, 2009.

Signing Authority

This document of the Department of Energy was signed on August 6, 2024, by Ann Dunkin, Senior Agency Official for Privacy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 7, 2024.
Treena V. Garrett,
Federal Register Liaison Officer, U.S. Department of Energy.

[FR Doc. 2024-17887 Filed 8-9-24; 8:45 am]

BILLING CODE 6450-01-P